DEPARTMENT OF AGRICULTURE

Commodity Credit Corporation

7 CFR Part 1435

RIN 0560-AH21

Sugar Program Definitions

AGENCY: Commodity Credit Corporation, USDA.

ACTION: Final rule; correction.

SUMMARY: This document corrects a final rule published on September 13, 2004 that amended the sugar marketing allotment regulations with respect to the definitions of “ability to market,” “market,” and “sugar.” Also, the rule modified procedures used to reassign allocation deficits. A correction is needed as a result of a typographical error.

DATES: Effective September 13, 2004.

FOR FURTHER INFORMATION CONTACT: Barbara Fecso, Dairy and Sweeteners Analysis, Economic and Policy Analysis Staff, Farm Service Agency (FSA), United States Department of Agriculture (USDA), Stop 0516, 1400 Independence Ave., SW., Washington, DC 20250-0516. Phone: (202) 720-4146. E-mail: barbara.fecso@usda.gov. Persons with disabilities who require alternative means for communication (Braille, large print, audio tape, etc.) should contact the USDA Target Center at (202) 720-2600 (voice and TDD).

SUPPLEMENTARY INFORMATION:

Need for Correction

This rule corrects the final rule published in the Federal Register on September 13, 2004 (69 FR 55061-55063) that amended the sugar marketing allotment regulations at 7 CFR 1435 with respect to definitions that have had an unintended affect on program administration. In the final rule section 1435.309(c) contained the erroneous word “fall.” This word is corrected to read “full.

List of Subjects in 7 CFR Part 1435

Loan programs—agriculture, Price support programs, Reporting and record keeping requirements, and Sugar.

Accordingly, 7 CFR part 1435 is corrected as follows:

1. The authority citation for part 1435 continues to read as follows:

Authority: 7 U.S.C. 1359aa'1359jj and 7272 et seq.; 15 U.S.C. 714b and 714c.

2. Correct § 1435.309(c), introductory text, to read as follows:

§ 1435.309 Reassignment of deficits.

* * * * *

(c) If CCC determines a sugarcane processor will be unable to market its full allocation for the crop year in which an allotment is in effect, the deficit will be reassigned by June 1:

* * * * *

Signed in Washington, DC, on September 23, 2004.
James R. Little,
Executive Vice President, , Commodity Credit Corporation.

[FR Doc. 04-21770 Filed 9-28-04; 8:45 am]

BILLING CODE 3410-05-P